DEPARTMENT OF DEFENSE

Office of the Secretary

[Docket ID: DoD-2014-OS-0100]

Proposed Collection; Comment Request

AGENCY: Washington Headquarters Service, Acquisition Directorate (WHS/AD), DoD.

ACTION: Notice.

SUMMARY: In compliance with Section 3506(c)(2)(A) of the Paperwork Reduction Act of 1995, the Washington Headquarters Service, Acquisition Directorate (WHS/AD), announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 8, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Director, Washington Headquarters Services Acquisition Directorate, 1225 S. Clark Street, Suite 1202, Arlington, VA 22302 (703-545-0423).

SUPPLEMENTARY INFORMATION: Title; Associated Form; and OMB Number: OFPP Rate the Agency Initiative; OMB Control Number 0704-TBD.

Needs and Uses: The information collection requirement is necessary to obtain offerors' feedback on the pre-award phase of WHS/AD Requests for Proposals (RFPs) greater than $1M. Their answers will help WHS/AD assess performance and identify strengths and weaknesses. The survey is optional and anonymous. The results from the survey will not be published or made publicly available. The survey will be provided to all those firms submitting offers in response to specific Requests for Proposals greater than $1M.

Affected Public: Business or other for profit.

Annual Burden Hours: 133.

Number of Respondents: 800.

Responses per Respondent: 1.

Average Burden per Response: 10 minutes.

Frequency: On occasion.

OMB has asked the Acquisitions Directorate (AD) of Washington Headquarters Service to participate in a pilot program whereby AD surveys its contractors after the pre-award phase of the acquisition process to obtain their feedback. Responses to the survey will help assess AD's performance and identify its strengths and weaknesses. The survey contains 17 questions and should take no more than 10 minutes to complete.

Dated: July 1, 2014.
Aaron Siegel,
Alternate OSD Federal Register Liaison Officer, Department of Defense.

[FR Doc. 2014-15827 Filed 7-7-14; 8:45 am]

BILLING CODE 5001-06-P